DEPARTMENT OF COMMERCE

International Trade Administration

[C-580-851]

Dynamic Random Access Memory Semiconductors From the Republic of Korea: Extension of Time Limit for Final Results of Countervailing Duty Administrative Review

AGENCY: Import Administration, International Trade Administration, Department of Commerce.

EFFECTIVE DATE: October 2, 2007.

FOR FURTHER INFORMATION CONTACT: Shane Subler at (202) 482-0189 or David Neubacher at (202) 482-5823; AD/CVD Operations, Office 1, Import Administration, International Trade Administration, U.S. Department of Commerce, 14th Street and Constitution Avenue, NW, Washington, DC 20230.

Background

On September 29, 2006, the Department of Commerce (the Department) published a notice of initiation of administrative review of the countervailing duty order on dynamic random access memory semiconductors (DRAMS) from the Republic of Korea, covering the period January 1, 2005, through December 31, 2005. See Initiation of Antidumping and Countervailing Duty Administrative Reviews, 71 FR 57465 (September 29, 2006). On December 11, 2006, the petitioner, Micron Technology, Inc., alleged that the respondent, Hynix Semiconductor, Inc. (Hynix), received new subsidies. The Department published the preliminary results of this administrative review on September 10, 2007. See Dynamic Random Access Memory Semiconductors from the Republic of Korea: Preliminary Results of Countervailing Duty Administrative Review, 72 FR 51609 (September 10, 2007).

Statutory Time Limits

Section 751(a)(3)(A) of the Tariff Act of 1930, as amended (the Act), requires the Department to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

Extension of Time Limit for Final Results

We find that it is not practicable to complete the final results of this review within the original time limits. First, the Department intends to verify the responses of Hynix and the Government of Korea (GOK) in November 2007. Second, the petitioner has raised several complex issues during this administrative review. For example, based on new factual information, the petitioner asked the Department to reconsider the timing of the benefit of a previously countervailed debt-to-equity swap. The petitioner also alleged in this review that Hynix received countervailable benefits from a duty reduction program on imports of equipment for factory automation. Because of the verification and the complexity of these issues, it is not practicable to complete this review by the original deadline of January 8, 2008. Therefore, the Department is extending the time limit for completion of the final results to not later than March 10, 2008, in accordance with section 751(a)(3)(A) of the Act.

We are issuing and publishing this notice in accordance with sections 751(a)(1) and 777(i)(1) of the Act.¹

¹ We note that Saturday, March 8, 2008, is 180 days after September 10, 2007, the publication date for the preliminary results. When a deadline falls on a weekend, the Department's practice is to use the next business day as the appropriate deadline. See Notice of Clarification: Application of "Next Business Day" Rule for Administrative Determination Deadlines Pursuant to the Act, 70 FR 24533 (May 10, 2005).

Dated: September 25, 2007.
Stephen J. Claeys,
Deputy Assistant Secretary for Import Administration.

[FR Doc. E7-19433 Filed 10-1-07; 8:45 am]

BILLING CODE 3510-DS-S